DEPARTMENT OF THE INTERIOR

Bureau of Indian Affairs

25 CFR Ch. I

Meeting of the No Child Left Behind Negotiated Rulemaking Committee

AGENCY: Bureau of Indian Affairs, Interior.

ACTION: Announcement of negotiated rulemaking committee meeting.

SUMMARY: The Secretary of the Interior has established an advisory Committee to develop recommendations for proposed rules for Indian education under six sections of the No Child Left Behind Act of 2001. As required by the Federal Advisory Committee Act, we are announcing the date and location of the next meeting of the No Child Left Behind Negotiated Rulemaking Committee.

DATES: The Committee's next meeting will be held August 21-24, 2003. The meeting will begin at 8:30 a.m. (PDT) on Thursday, August 21, and end at noon (PDT) on Sunday, August 24.

ADDRESSES: The meeting will be held at the Grand Hyatt Hotel, 721 Pine Street, Seattle, WA 98101, telephone (206) 774-1234.

FOR FURTHER INFORMATION CONTACT: Barbara James or Shawna Smith, No Child Left Behind Negotiated Rulemaking Project Management Office, PO Box 1430, Albuquerque, NM 87103-1430; telephone (505) 248-7241; fax (505) 248-7242; e-mail bjames@bia.edu or ssmith@bia.edu. We will post additional information as it becomes available on the Office of Indian Education Programs Web site under “Negotiated Rulemaking” at http//www.oiep.bia.edu.

SUPPLEMENTARY INFORMATION: For more information on negotiated rulemaking under the No Child Left Behind Act, see the Federal Register notices published on December 10, 2002 (67 FR 75828) and May 5, 2003 (68 FR 23631) or the Web site at http//www.oiep.bia.edu under “Negotiated Rulemaking.”

At the next meeting the Committee will divide into four work groups: Student Rights and Geographic Boundaries; Tribally Controlled Schools Act/Grants; Adequate Yearly Progress; and Funding and Distribution of Funds. The Committee will also meet in full session each day for work group reports and logistics. All meetings are open to the public. There is no requirement for advance registration for members of the public who wish to attend and observe the Committee meetings or the work group meetings or to make public comments. The agenda for the August 21-24, 2003, meeting is as follows:

Agenda for No Child Left Behind Negotiated Rulemaking Committee Meeting, August 21-24, 2003, Seattle, Washington

August 21

Opening Remarks—8:30 a.m.

Public comments (30 minutes).

Introductions, Logistics, and Housekeeping.

Plenary Committee considers proposals from Work Groups.

Work Group meetings.

August 22

Public comments—8:30-9 a.m.

Plenary Committee considers proposals from Work Groups.

Work Group meetings.

Plenary Committee meeting considers proposals from Work Groups.

August 23

Public comments—8:30 a.m.

Work group meetings.

Plenary Committee meeting hears Work Group reports.

August 24

Public comments—8:30 a.m.

Plenary Committee meeting sets agenda for next meeting.

Closing Remarks.

Work group meetings.

Closing—noon.

Dated: July 28, 2003.
Aurene M. Martin,
Acting Assistant Secretary—Indian Affairs.

[FR Doc. 03-19678 Filed 8-1-03; 8:45 am]

BILLING CODE 4310-6W-P